DEPARTMENT OF ENERGY

Federal Energy Regulatory Commission

[Project No. 12582-001]

Clover Creek Hydro, LLC; Notice of Surrender of Preliminary Permit

July 10, 2006.

Take notice that Clover Creek Hydro, LLC, permittee for the proposed Byram Hydroelectric Project, has requested that its preliminary permit be terminated. The permit was issued on December 29, 2005, and would have expired on November 30, 2008.¹ The project would have been located on the Clover Creek portion of the Main Canal of the North Side Canal Company and Little Wood River, near Gooding, in Gooding County, Idaho.

¹ 113 FERC ¶ 62,257.

The permittee filed the request on June 26, 2006, and the preliminary permit for Project No. 12582 shall remain in effect through the thirtieth day after issuance of this notice unless that day is a Saturday, Sunday, part-day holiday that affects the Commission, or legal holiday as described in section 18 CFR 385.2007, in which case the effective date is the first business day following that day. New applications involving this project site, to the extent provided for under 18 CFR part 4, may be filed on the next business day.

Magalie R. Salas,
Secretary.

[FR Doc. E6-11191 Filed 7-14-06; 8:45 am]

BILLING CODE 6717-01-P